DEPARTMENT OF HEALTH AND HUMAN SERVICES

National Advisory Committee on Children and Disasters Public Teleconference

AGENCY: Office of the Secretary, Department of Health and Human Services (HHS).

ACTION: Notice.

SUMMARY: As stipulated by the Federal Advisory Committee Act, the Department of Health and Human Services is hereby giving notice that the National Advisory Committee on Children and Disasters (NACCD) will hold a public teleconference on May 1, 2018.

DATES: The NACCD Teleconference is May 1, 2018, from 3:00 p.m. to 4:00 p.m. Eastern Standard Time EST.

ADDRESSES: We encourage members of the public to attend the teleconference. To register, send an email to naccd@hhs.gov with “NACCD Registration” in the subject line. Submit your comments to naccd@hhs.gov or on the NACCD Contact Form located at https://www.phe.gov/Preparedness/legal/boards/naccd/Pages/contact.aspx. For additional information, visit the NACCD website located at https://www.phe.gov/naccd.

SUPPLEMENTARY INFORMATION: Pursuant to the Federal Advisory Committee Act of 1972 (5 U.S.C., Appendix, as amended), and section 2811A of the Public Health Service Act (42 U.S.C. 300hh-10a), as added by section 103 of the Pandemic and All Hazards Preparedness Reauthorization Act of 2013 (Pub. L. 113-5), the HHS Secretary, in consultation with the Secretary of the U.S. Department of Homeland Security, established the NACCD. The purpose of the NACCD is to provide advice and consultation to the HHS Secretary with respect to the medical and public health needs of children in relation to disasters.

Background: The NACCD Public Teleconference on May 1, 2018, is dedicated to the presentation, deliberation, and vote on the NACCD Funding Strategies Report.

Availability of Materials: We will post all teleconference materials and any modifications to the agenda prior to May 1, 2018, on the NACCD website, located at https://www.phe.gov/naccd.

Procedures for Providing Public Input: Members of the public may attend the teleconference via a toll-free call-in phone number, which is available on the NACCD website at https://www.phe.gov/naccd.

We encourage members of the public to provide written comments that are relevant to the NACCD Teleconference prior to May 1, 2018. Send written comments by email to naccd@hhs.gov with “NACCD Public Comment” in the subject line. The NACCD Chair will respond during the meeting to comments received by April 30, 2018, during the teleconference.

Dated: April 9, 2018.
Robert P. Kadlec,
Assistant Secretary for Preparedness and Response.

[FR Doc. 2018-08278 Filed 4-19-18; 8:45 am]

BILLING CODE P